DEPARTMENT OF THE INTERIOR

National Park Service

National Capital Memorial Commission; Notice of Public Meeting

Notice is hereby given in accordance with the Federal Advisory Committee Act that a meeting of the National Capital Memorial Commission (the Commission) will be held at 1 p.m. on Tuesday, September 5, at the National Building Museum, Room 312, 5th and F Streets, NW., Washington, DC.

The purpose of the meeting will be to discuss currently authorized and proposed memorials in the District of Columbia and environs.

In addition to discussing general matters and routine business, the Commission will consider:

Action Items

(a) H.R. 4800, A bill to require the Secretary of the Interior to identify appropriate lands within the area designated as Area I of the Mall in Washington, DC, as the location of a future memorial to former President Ronald Reagan.

(b) H.R. 4581, a bill to authorize the Homeward Bound Foundation to establish the Middle Passage National Monument.

(c) National Capital Planning Commission Memorials and Museums Master Plan.

(d) S. 2919 and H.R. 4957, bills to extend the legislative authority for the Black Patriots Foundation to establish a commemorative work.

(e) H.R. 4583, a bill to extend the legislative authority for the Air Force Memorial Foundation to establish a memorial to the United States Air Force.

Informational Items

(A) Public Law 106-214, authorizing the placement of a plaque within the site of the Vietnam Veterans Memorial to honor those Vietnam Veterans who died after their service in the Vietnam War, but as a direct result of that service.

(a) Public Law 106-19, establishing the Dwight D. Eisenhower Memorial Commission.

The Commission was established by Public Law 99-652, the Commemorative Works Act, to advise the Secretary and the Administrator, General Services Administration (the Administrator) on policy and procedures for establishment of (and proposals to establish) commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC and its environs.

The members of the Commission are as follows:

Director, National Park Service

Chairman, National Capital Planning Commission

Architect of the Capitol

Chairman, American Battle Monuments Commission

Chairman, Commission of Fine Arts

Mayor of the District of Columbia

Administrator, General Services Administration

Secretary of Defense

The meeting will be open to the public. Any person may file with the Commission a written statement concerning the matters to be discussed. Persons who wish to file a written statement or testify at the meeting or who want further information concerning the meeting may contact Nancy Young, Executive Secretary to the Commission, at (202) 619-7097.

Dated: August 8, 2000.
Terry R. Carlstrom,
Regional Director, National Capital Region.

[FR Doc. 00-20636 Filed 8-14-00; 8:45 am]

BILLING CODE 4310-70-M